DEPARTMENT OF AGRICULTURE

Food and Nutrition Service

Agency Information Collection Activities: Proposed Collection; Comment Request—Supplemental Nutrition Assistance Program Repayment Demand and Program Disqualification

AGENCY: Food and Nutrition Service, USDA.

ACTION: Notice.

SUMMARY: In accordance with the Paperwork Reduction Act of 1995, this notice invites the general public and other public agencies to comment on proposed information collections. This collection is a revision of currently approved information collection requirements associated with initiating collection actions against households who have received an overissuance in the Supplemental Nutrition Assistance Program (SNAP).

DATES: Written comments must be submitted on or before May 23, 2011 to be assured consideration.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology. Comments may be sent to: Jane Duffield, Chief, State Administration Branch, Food and Nutrition Service, U.S. Department of Agriculture, 3101 Park Center Drive, Room 822, Alexandria, VA 22302. Comments may also be submitted via fax to the attention of Jane Duffield at 703-305-0928 or via e-mail to Jane.Duffield@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 822, Alexandria, Virginia 22302. All responses to this notice will be summarized and included in the request for Office of Management and Budget approval. All comments will be a matter of public record.

FOR FURTHER INFORMATION CONTACT: Requests for additional information or copies of this information collection should be directed to Christine Daffan at 703-305-2473.

SUPPLEMENTARY INFORMATION:

Title: Supplemental Nutrition Assistance Program Repayment Demand and Program Disqualification.

OMB Number: 0584-0492.

Form Number: None.

Expiration Date: July 31, 2011.

Type of Request: Revision of a currently approved collection.

Abstract: Section 13(b) of the Food and Nutrition Act of 2008, as amended (7 U.S.C. 2022(b)), and Supplemental Nutrition Assistance Program (SNAP) regulations at 7 CFR 273.18 require State agencies to initiate collection action against households that have been overissued benefits. To initiate collection action, State agencies must provide an affected household with written notification informing the household of the claim and demanding repayment. This process is automated in most State agencies. For initiating collection action on an overissuance, we are increasing the estimated annual reporting and recordkeeping burden for State agencies and households from 111,200 hours to 137,584 hours. The reason for the increase is to reflect the higher number of claims that were established in fiscal year (FY) 2009.

Note that for recipient claims, this Federal Register notice only covers the reporting and recordkeeping burden for initiating collection action. The burden associated with reporting collections and other claims management information on the FNS-209 report is covered under currently approved OMB number 0584-0069 expiration date 8/31/2012. The burden associated with referring delinquent claims and receiving collections through the Treasury Offset Program is covered under currently approved OMB number 0584-0446 expiration date 2/28/2013. SNAP regulations at 7 CFR 273.16 require State agencies to investigate any case of suspected fraud and, where applicable, make an intentional Program violation (IPV) determination either administratively or judicially. Examples of notifications and activity involved in the IPV process include:

• The State agency providing written notification informing an individual suspected of committing an IPV of an impending administrative disqualification hearing or court action;

• An individual opting to accept the disqualification and waiving the right to an administrative disqualification hearing or court action by signing either a waiver to an administrative disqualification hearing or a disqualification consent agreement in cases of deferred adjudication; and

• Once a determination is made regarding an IPV, the State agency sends notification to the affected individual of the action taken on the administrative disqualification hearing or court decision.

Despite an increase in SNAP participation, IPV activity has only increased slightly. We are increasing the household annual reporting burden for the activities related to IPV disqualifications from 2,348 hours to 2,710 hours.

The States' annual reporting burden for the activities related to IPV disqualifications and hearing notices has increased from 13,340 hours to 15,381 hours. The States' annual recordkeeping burden for the IPV related activities increased from 2,942 hours to 3,396 hours. These increases are due to Program changes as a result of an increased number of SNAP households that States have reported as disqualified.

One of the factors used by a State agency to determine the appropriate disqualification penalty to assign to an individual is whether or not the individual was found to have committed any prior IPVs. The way that State agencies determine this is by accessing and checking the Electronic Disqualified Recipient System (eDRS), which is an automated system developed by FNS that contains records of disqualifications in every State. State agencies are responsible for updating the system and checking it to determine the appropriate length of each disqualification. An estimate of the annual burden associated with the eDRS process reflects an increase from 5,563 hours to 7,967 hours per year.

Summary of Estimated Burden

The net aggregate change from the currently approved burden of 135,393 hours to the proposed annual burden for this collection of 167,038 hours is an increase of 31,645 hours. For initiating collection action on an overissuance, we are increasing the estimated annual burden for State agencies and households from 111,200 hours to 137,584 hours to reflect the higher number of claims established in FY 2009. The IPV-related State agency and household annual reporting and recordkeeping burden has increased from 18,630 hours to 21,487 hours to reflect the higher number of disqualifications. An estimate of the annual burden associated with the eDRS process reflects a total increase from 5,563 hours to 7,967 hours per year. Adjustments have been made to the burden to include requirements not previously identified, burden identified incorrectly, and corrections made in the calculations of the number of responses and hours per response.

Affected Public: State, Local and Tribal government (SA); Individual/Households (I/H).

Respondent Type: SNAP participants.

SA Reporting Burden

Estimated Number of Respondents: 53.

Estimate Total Number of Responses per Respondent: 17,015.77.

Estimated Total Annual Responses: 901,836.

Estimated Time per Response: 0.12760.

Estimated Total Annual Reporting Burden: 115,071.418.

SA Recordkeeping Burden

Estimated Number of Recordkeepers: 53.

Estimated Total Records per Recordkeeper: 14,902.77.

Annual Records: 789,794 + 53 Recordkeepers = 789,847.

Estimated Average # of Hours per Response: 0.03333.

Estimated Total Recordkeeping Hours: 26,326.20.

I/H Reporting Burden

Estimated Number of Respondents: 687,922.

Estimated Number of Responses per Respondent: 1.19333.

Total Number of Annual Responses: 820,917.96.

Estimated Time per Response: 0.03123.

Estimated Total Annual Reporting Burden: 25,640.36.

Grand Total Burden Reporting and Recordkeeping Burden: 167,037.

Dated: March 18, 2011.
Julia Paradis,
Administrator, Food and Nutrition Service.

[FR Doc. 2011-6950 Filed 3-23-11; 8:45 am]

BILLING CODE 3410-30-P